DEPARTMENT OF HEALTH AND HUMAN SERVICES

Health Resources and Service Administration

Council on Graduate Medical Education; Notice of Meeting

In accordance with section 10(a)(2) of the Federal Advisory Committee Act (Public Law 92-463), notice is hereby given of the following meeting:

Name: Council on Graduate Medical Education (COGME).

Dates and Times: September 12, 2014, 9:00 a.m.-3:00 p.m. (EST).

Place: Webinar and Conference Call Format.

Status: The meeting will be open to the public.

Purpose: The COGME provides advice and recommendations to the Secretary of the Department of Health and Human Services and to Congress on a range of issues including the supply and distribution of physicians in the United States, current and future physician shortages or excesses, issues relating to foreign medical school graduates, the nature and financing of medical education training, and the development of performance measures and longitudinal evaluation of medical education programs.

Agenda: This webinar meeting will begin with opening remarks from Health Resources and Service Administration (HRSA) senior officials and include a vote on the Council's next Vice Chair. The meeting will also include discussion on the Council's 22nd Report to Congress as well as a brief update by the Designated Federal Official on the Council's current status.

The agenda will be available 2 days prior to the meeting on the HRSA Web site (http://www.hrsa.gov/advisorycommittees/bhpradvisory/cogme/index.html). Agenda items are subject to change as priorities dictate.

Public Comment: An opportunity will be provided for public comment at the end of the meeting, or written comments to the members may be sent, no later than 5 days prior to the meeting date, to Shane Rogers at srogers@hrsa.gov. As this meeting will be conducted via webinar format, a Question and Answer Pod will also be available for public comment as well.

SUPPLEMENTARY INFORMATION: Information on accessing the webinar will be available via the following Web site no later than 2 days prior to the meeting date: http://www.hrsa.gov/advisorycommittees/bhpradvisory/cogme/index.html.

FOR FURTHER INFORMATION CONTACT: Mr. Shane Rogers, Designated Federal Official, COGME, Bureau of Health Workforce, Health Resources and Services Administration, Room 12C-06, Parklawn Building, 5600 Fishers Lane, Rockville, Maryland 20857, call 301-443-5260, or email srogers@hrsa.gov.

Dated: August 22, 2014.
Jackie Painter,
Acting Director, Division of Policy and Information Coordination.

[FR Doc. 2014-20598 Filed 8-28-14; 8:45 am]

BILLING CODE 4165-15-P